NATIONAL FOUNDATION ON THE ARTS AND THE HUMANITIES

National Endowment for the Humanities

Meeting of Humanities Panel

AGENCY: National Endowment for the Humanities; National Foundation on the Arts and the Humanities.

ACTION: Notice of Meeting.

SUMMARY: The National Endowment for the Humanities (NEH) will hold eleven meetings, by video conference, of the Humanities Panel, a federal advisory committee, during April 2025. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street, SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: April 1, 2025

This video meeting will discuss applications on the topics of Manuscript Preparation and Scholarly Digital Projects: the Arts and Architecture, for the Collaborative Research grant program, submitted to the Division of Research Programs.

2. Date: April 1, 2025

This video meeting will discuss applications on the topics of Philosophy, Religion, and Classics, for the Scholarly Editions and Translations grant program, submitted to the Division of Research Programs.

3. Date: April 1, 2025

This video meeting will discuss applications on the topics of Pedagogy and Scholarly Communication, for the Digital Humanities Advancement Grants program, submitted to the Office of Digital Humanities.

4. Date: April 2, 2025

This video meeting will discuss applications on the topics of AI, History, Language, and Philosophy, for the Humanities Research Centers on Artificial Intelligence grant program, submitted to the Division of Research Programs.

5. Date: April 3, 2025

This video meeting will discuss applications on the topics of AI, Health Humanities, and Ethics, for the Humanities Research Centers on Artificial Intelligence grant program, submitted to the Division of Research Programs.

6. Date: April 3, 2025

This video meeting will discuss applications on the topics of Computational and Spatial Humanities, for the Digital Humanities Advancement Grants program, submitted to the Office of Digital Humanities.

7. Date: April 3, 2025

This video meeting will discuss applications on the topic of Convening, for the Collaborative Research grant program, submitted to the Division of Research Programs.

8. Date: April 4, 2025

This video meeting will discuss applications on the topics of Middle East, Africa, and Asia, for the Scholarly Editions and Translations grant program, submitted to the Division of Research Programs.

9. Date: April 4, 2025

This video meeting will discuss applications on the topics of AI, Democracy, Justice, and Law, for the Humanities Research Centers on Artificial Intelligence grant program, submitted to the Division of Research Programs.

10. Date: April 9, 2025

This video meeting will discuss applications on the topic of Manuscript Preparation and Scholarly Digital Projects: Social Sciences, for the Collaborative Research grant program, submitted to the Division of Research Programs.

11. Date: April 9, 2025

This video meeting will discuss applications on the topics of Manuscript Preparation and Scholarly Digital Projects: Studies of Science, Technology, and Health, for the Collaborative Research grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: March 12, 2025.
Jessica Graves,
Paralegal Specialist, National Endowment for the Humanities.

[FR Doc. 2025-04291 Filed 3-14-25; 8:45 am]

BILLING CODE 7536-01-P